DEPARTMENT OF HEALTH AND HUMAN SERVICES

Centers for Disease Control and Prevention

[60 Day-08-0134]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Reports Clearance Officer, 1600 Clifton Road NE., MS-D74, Atlanta, Georgia 30333; comments may also be sent by e-mail to omb@cdc.gov.

Comments are invited on (a) Whether the proposed collection of information is necessary for the proper performance of the functions of the agency, including whether the information shall have a practical utility; (b) the accuracy of the agency's estimate of the burden of the proposed collection of information; (c) ways to enhance the quality, utility, and clarity of the information to be collected; and (d) ways to minimize the burden of the collection of information on respondents, including through the use of information technology. Written comments should be received within 60 days of this notice.

Proposed Project

Foreign Quarantine Regulations (42 CFR part 71) (OMB Control No. 0920-0134)—Revision—National Center for Preparedness, Detection, and Control of Infectious Diseases (NCPDCID), Centers for Disease Control and Prevention (CDC)

Background and Brief Description

Section 361 of the Public Health Service Act (42 U.S.C. 264) authorizes the Secretary of Health and Human Services (HHS) to make and enforce regulations necessary to prevent the introduction, transmission, or spread of communicable diseases from foreign countries into the United States. Legislation and the existing regulations governing foreign quarantine activities (42 CFR part 71) authorize quarantine officers and other personnel to inspect and undertake control measures with respect to conveyances, persons, and shipments of animals and etiologic agents entering the United States from foreign ports in order to protect the public health.

Under foreign quarantine regulations, the master of a ship or commander of an airplane entering the United States from a foreign port is required by public health law to report certain illnesses among passengers (42 CFR 71.21(b)). CDC recently reviewed 42 CFR part 71 and determined that five data collection requirements and one recordkeeping requirement had not been included in previous information collection request submissions. Thus, in this request to OMB, CDC is requesting approval for an additional 2,902 burden hours.

The first additional data collection requirement is the designation of yellow fever vaccination clinics. Under 42 CFR 71.3, the Director of CDC delegates to states the responsibility for designation of yellow fever vaccination clinics to states and territories. States and territories then designate the clinics, based on application by the facilities and presentation of evidence. Under the regulation, facilities must provide evidence of adequate facilities and professionally trained personnel for handling, storage, and administration of the vaccine. The designated center must also comply with any instruction issued by the CDC Director for handling, storage, and administration of the vaccine. CDC estimates that approximately 500 professional staff are added each year as a registered stamp holder for the International Certificate of Vaccination or Prophylaxis. The estimated time to gather records and apply to become a stamp holder is one hour. The additional burden for this provision is 500 hours.

The second additional data collection requirement is found in 42 CFR 71.55(c). This provision requires that the remains of a person who died of a communicable disease listed in § 71.32(b) may not be brought back into a U.S. port unless the body is (a) Properly embalmed and placed in a hermetically sealed casket, (b) cremated, or (c) accompanied by a permit issued by the Director of CDC. CDC has determined that the issuance of a permit implies a data collection requirement. CDC estimates a maximum of 5 respondents annually with an average burden of one hour per respondent, for an increase of 5 hours for this provision.

The last three data collection requirements are found under § 71.56. CDC established this section by Interim Final Rule in 2003 (68 FR 62353). This section prohibits the importation of African rodents, or any rodents whose native habitat is Africa, or any products derived from such rodents. Those wishing to import such animals or products may apply to the Director of CDC for an exemption to this prohibition and may appeal the Director's decision. Finally, an individual or company may appeal a CDC order causing an animal to be quarantined, re-exported or destroyed. These data collection requirements were originally approved by OMB under OMB Control No. 0920-0615. This approval expired July 31, 2004. Although CDC collected data from less than 9 respondents annually since the Interim Final Rule went into effect, CDC wishes to reinstate the data collection requirement following recent review of 42 CFR 71. This reinstatement is for 22 burden hours.

Finally, § 71.21(c) requires reporting of the number of cases (including zero) of gastrointestinal illness in passengers and crew recorded in the ship's medical log during the current cruise. CDC had already included the reporting requirement in its information collection request, but had not included the recordkeeping requirement of the medical log. In addition, CDC is changing the requirement from reporting gastrointestinal illness to reporting all diseases of public health significance. This submission includes the medical log recordkeeping requirement, for an additional 2,375 burden hours.

Respondents include airline pilots, ships' captains, importers, medical professionals, and travelers. The nature of the quarantine response dictates which forms are completed by whom.

There are no costs to respondents except their time to complete the forms.

Estimate of Annualized Burden Hours
Citation | Number of respondents | Responses per respondent | Average burden per respondent (in hours) | Total burden (in hours)
71.21 Radio report death/illness | 9,500 | 1 | 2/60 | 317
71.21(c) Medical log | 9,500 | 1 | 15/60 | 2,375
71.3 Designation of yellow fever vaccination centers | 500 | 1 | 1 | 500
71.33(c) Report by person(s) in isolation or surveillance | 11 | 1 | 3/60 | 1
71.35 Report of death/illness in port | 5 | 1 | 30/60 | 3
Outbreak of public health significance | 2,700,000 | 1 | 5/60 | 225,000
Reporting of ill passenger(s) | 800 | 1 | 5/60 | 67
71.51(b)(3) Admission of cats/dogs; death/illness | 5 | 1 | 3/60 | 1
71.51(d) Dogs/cats; certification of confinement, vaccination | 1,200 | 1 | 15/60 | 300
71.52(d) Turtle importation permits | 10 | 1 | 30/60 | 5
71.53(d) Importer registration—nonhuman primates | 40 | 1 | 10/60 | 67
71.53(d) Recordkeeping | 30 | 4 | 30/60 | 60
71.55 Permit for dead body | 5 | 1 | 1 | 5
71.56(a)(ii) Request for exemption | 12 | 1 | 1 | 12
71.56(a)(iii) Appeal | 5 | 1 | 1 | 5
71.56(c) Appeal | 5 | 1 | 1 | 5
Total |  |  |  | 228,723

Dated: October 1, 2008.
Maryam I. Daneshvar,
Reports Clearance Officer, Centers for Disease Control and Prevention.

[FR Doc. E8-24568 Filed 10-15-08; 8:45 am]

BILLING CODE 4163-18-P